DEPARTMENT OF COMMERCE

National Oceanic and Atmospheric Administration

RIN 0648-XD856

Marine Mammals; File No. 18902

AGENCY: National Marine Fisheries Service (NMFS), National Oceanic and Atmospheric Administration (NOAA), Commerce.

ACTION: Notice; receipt of application.

SUMMARY: Notice is hereby given that Colleen Reichmuth, Ph.D., Long Marine Laboratory, University of California at Santa Cruz, 100 Shaffer Road, Santa Cruz, CA 95060, has applied in due form for a permit to conduct research on pinnipeds in captivity.

DATES: Written, telefaxed, or email comments must be received on or before September 30, 2015.

ADDRESSES: The application and related documents are available for review by selecting “Records Open for Public Comment” from the “Features” box on the Applications and Permits for Protected Species (APPS) home page, https://apps.nmfs.noaa.gov, and then selecting File No. 18902 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No. 18902 in the subject line of the email comment.

Those individuals requesting a public hearing should submit a written request to the Chief, Permits and Conservation Division at the address listed above. The request should set forth the specific reasons why a hearing on this application would be appropriate.

FOR FURTHER INFORMATION CONTACT: Amy Sloan or Courtney Smith, (301) 427-8401.

SUPPLEMENTARY INFORMATION: The subject permit is requested under the authority of the Marine Mammal Protection Act of 1972, as amended (MMPA; 16 U.S.C. 1361 et seq.), and the regulations governing the taking and importing of marine mammals (50 CFR part 216).

The applicant proposes to conduct comparative psychological and physiological studies with captive California sea lions (Zalophus californianus), harbor seals (Phoca vitulina), spotted seals (Phoca largha), ringed seals (Pusa hispida), and bearded seals (Erignathus barbatus) at Long Marine Laboratory (Santa Cruz, CA) and the Alaska SeaLife Center (Seward, AK). Up to four individuals per species may be studied at both facilities combined over the duration of the permit. Animals may participate in daily activities using behaviors established through operant conditioning and may refuse participation in an activity at any time. For psychological assessments, pinnipeds are trained to voluntarily participate in the research on land and in water. Controlled sensory cues are used to evaluate sensory and cognitive performance with an emphasis on the auditory sense to address conservation issues related to ocean noise. Electrophysiological methods may be used to monitor passive neuronal responses during exposure to similar sounds. Behavioral experiments will test hearing sensitivity in the presence or following the cessation of noise to determine how exposure to anthropogenic noise may influence the ability to detect various sounds.

The pinnipeds will also participate in physiological assessments to study their general biology including growth and development, nutritional requirements, health status, and environmental tolerance. Open-flow respirometry methods will be used to gather metabolic data from animals trained to rest and breathe under a plastic dome. Daily to weekly, animals may participate in voluntary physiological procedures including weighing, measuring, ultrasound, thermographic imaging, and sampling of hair, skin, feces, urine, and naturally shed vibrissae. Each month (up to 12 times per year), animals may be fed benign fecal markers and blood samples may be obtained. The applicant requests a 5-year permit.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: August 25, 2015.
Julia Harrison,
Chief, Permits and Conservation Division, Office of Protected Resources, National Marine Fisheries Service.

[FR Doc. 2015-21392 Filed 8-28-15; 8:45 am]

BILLING CODE 3510-22-P